DEPARTMENT OF ENERGY

Federal Energy Regulatory Commission

[Docket Nos. CP02-396-000 and PF01-1-000]

Greenbrier Pipeline Company, LLC; Notice of Site Visit

November 7, 2002.

On November 20, 2002, the staff of the Office of Energy Projects will conduct a site visit of Greenbrier Pipeline Company, LLC's Greenbrier Pipeline Project in North Carolina and Virginia. The project area will be inspected by automobile and on foot, as appropriate.

All interested parties may attend the site visit. Those planning to attend must provide their own transportation. For additional information about the site visit, contact the Commission's Office of External Affairs at 1 866 208-FERC (3372).

Magalie R. Salas,
Secretary.

[FR Doc. 02-29006 Filed 11-13-02; 8:45 am]

BILLING CODE 6717-01-P